DEPARTMENT OF DEFENSE

GENERAL SERVICES ADMINISTRATION

NATIONAL AERONAUTICS AND SPACE ADMINISTRATION

48 CFR Chapter 1

[Docket No. FAR-2021-0051, Sequence No. 2]

Federal Acquisition Regulation: Federal Acquisition Circular 2021-05; Introduction

AGENCY: Department of Defense (DoD), General Services Administration (GSA), and National Aeronautics and Space Administration (NASA).

ACTION: Summary presentation of a final rule.

SUMMARY: This document summarizes technical amendments to the Federal Acquisition Regulation (FAR) in this Federal Acquisition Circular (FAC) 2021-05. A companion document, the Small Entity Compliance Guide (SECG), follows this FAC.

DATES: For the effective date, see the separate document, which follows.

FOR FURTHER INFORMATION CONTACT: Ms. Lois Mandell, Regulatory Secretariat Division (MVCB), at 202-501-4755 or GSARegSec@gsa.gov, for information pertaining to status or publication schedules. Please cite FAC 2021-05, Technical Amendments.

Rule Listed in FAC 2021-05
Subject
Technical Amendments

ADDRESSES: The FAC, including the SECG, is available via the internet at https://www.regulations.gov.

SUPPLEMENTARY INFORMATION: A summary for the FAR rule follows. For the actual technical amendments made by this rule, refer to the specific subject set forth in the document following the summary. FAC 2021-05 amends the FAR as follows:

Technical Amendments

Editorial changes are made at FAR 4.402 and 52.204-2.

William F. Clark,
Director, Office of Government-wide Acquisition Policy, Office of Acquisition Policy, Office of Government-wide Policy.

Federal Acquisition Circular (FAC) 2021-05 is issued under the authority of the Secretary of Defense, the Administrator of General Services, and the Administrator of National Aeronautics and Space Administration.

Unless otherwise specified, all Federal Acquisition Regulation (FAR) and other directive material contained in FAC 2021-05 is effective March 10, 2021.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, National Aeronautics and Space Administration.

[FR Doc. 2021-04849 Filed 3-9-21; 8:45 am]

BILLING CODE 6820-EP-P